OFFICE OF SCIENCE AND TECHNOLOGY POLICY

Aeronautics Science and Technology Subcommittee; Committee on Technology; National Science and Technology Council

ACTION: Request for review and comment on draft high-priority national aeronautics research and development (R&D) challenges, goals and objectives and notice of meeting.

Background: The Aeronautics Science and Technology Subcommittee (ASTS) of the National Science and Technology Council's (NSTC) Committee on Technology (COT) will post a draft of the high-priority national aeronautics R&D challenges, goals and objectives and request public comment. These challenges, goals and objectives will provide the foundation for a plan for national aeronautics R&D and for related research, development, test and evaluation (RDT&E) infrastructure (Plan). Executive Order (E.O.) 13419—National Aeronautics Research and Development—signed December 20, 2006, calls for the development of this Plan and further directs biennial updates. The Plan is to be guided by the National Aeronautics Research and Development Policy (Policy) that was prepared by the National Science and Technology Council and endorsed by E.O. 13419. [Both the Policy and E.O. 13419 are available via: http://www.ostp.gov/nstc/aeroplans/]. The draft high-priority national aeronautics R&D challenges, goals and objectives for the Plan originate from the Principles detailed in the Policy (with the exception of the aviation security and workforce principles, which are under consideration in different venues). A public meeting (detailed below) will be held in conjunction with this request for comments.

Request for Review and Comment: E.O. 13419 and the National Aeronautics R&D Policy call for executive departments and agencies (D&A) conducting aeronautics R&D to engage industry, academia and other non-Federal stakeholders in support of government planning and performance of aeronautics R&D. The purposes of this posting are to provide notice of request for comments on the draft high-priority national aeronautics R&D challenges, goals and objectives as they relate to federal government activities in this area, including RDT&E infrastructure.

Posting, Date and Web Site Address: The draft national aeronautics R&D challenges, goals and objectives will be posted by COB on October 22, 2007 at: http://www.ostp.gov/nstc/aeroplans/.

Submission of Comments: A spreadsheet will be provided for submission of comments at http://www.ostp.gov/nstc/aeroplans/. Comments must be returned to: aero-rd-comments1@ostp.gov by 1 p.m. EST, Wednesday, November 7, 2007. Readers are advised that comments provided after the deadline or provided in a format other than the prescribed spreadsheet may not be considered. Readers are also advised that the scope of this request is general in nature and does not include proprietary equipment, technologies, programs, and/or specific facilities.

Notice of Meeting: The ASTS of the NSTC COT will hold a public meeting to provide background, answer questions, and receive comments on the draft national aeronautics R&D challenges, goals, and objectives. The meeting will be held on Thursday, October 25, 2007 from 2 p.m.-4 p.m. (EST) in the auditorium of the National Aeronautics and Space Administration (NASA) Headquarters Building (300 E Street, SW., Washington, DC 20546 (please enter through the West entrance)). Attendees may be requested to present a valid, government issued, picture identification for entry. For individuals who prefer to phone into the meeting, a listen-only telephone bridge is planned. The telephone number, access code and further details will be made available at http://www.ostp.gov/nstc/aeroplans/ prior to the public meeting. Seating and phone lines are limited and will be available on a first-come, first-served basis. Registration is not required.

FOR FURTHER INFORMATION CONTACT: William Davis, National Science and Technology Council, Office of Science and Technology Policy, New Executive Office Building, Washington, DC 20502—telephone (202) 456-6012. Additional information is also available at the Office of Science and Technology Policy NSTC Web site at: http://www.ostp.gov/nstc/aeroplans/.

Pamela J. Smith,
Acting Operations Manager.

[FR Doc. E7-20611 Filed 10-17-07; 8:45 am]

BILLING CODE 3170-W8-P